NATIONAL SCIENCE FOUNDATION

Notice of Permit Applications Received Under the Antarctic Conservation Act of 1978

AGENCY: National Science Foundation.

ACTION: Notice of Permit Applications Received under the Antarctic Conservation Act of 1978.

SUMMARY: The National Science Foundation (NSF) is required to publish a notice of permit applications received to conduct activities regulated under the Antarctic Conservation Act of 1978, Public Law 95-541. NSF has published regulations under the Antarctic Conservation Act at Title 45 Part 670 of the Code of Federal Regulations. This is the required notice of permit applications received.

DATES: Interested parties are invited to submit written data, comments, or views with respect to this permit application by February 24, 2012. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Polly A. Penhale at the above address or (703) 292-7420.

SUPPLEMENTARY INFORMATION: The National Science Foundation, as directed by the Antarctic Conservation Act of 1978 (Pub. L.95-541), as amended by the Antarctic Science, Tourism and Conservation Act of 1996, has developed regulations for the establishment of a permit system for various activities in Antarctica and designation of certain animals and certain geographic areas a requiring special protection. The regulations establish such a permit system to designate Antarctic Specially Protected Areas.

The applications received are as follows:

1. Applicant:

Charles D. Amsler, Jr., Department of Biology, University of Alabama, Birmingham, AL 35294-1170.

Permit Application: 2012-012.

Activity for Which Permit Is Requested

Take and Import into the U.S.A. The applicant plans to take from the Palmer Station area approximately 20 brown marine algae, 30 green marine algae, 10 red marine algae, and 10 diatom marine algae to sublimate cultures of filamentous Antarctic macroalgae and diatoms previously isolated in culture but require additional strains, particularly of filamentous green algal endophytes for future study. The applicant will use these samples to understand the interactions of epiphytic and endophytic algae (both filamentous macroalgae and diatoms) with larger macroalgae and with mesoherbivores such as amphipods. The cultures will be maintained at the home university.

Location: Palmer Station, Anvers Island, Antarctic Peninsula.

Dates: April 1, 2012 to July 31, 2013.

Nadene G. Kennedy,
Permit Officer, Office of Polar Programs.

[FR Doc. 2012-1509 Filed 1-24-12; 8:45 am]

BILLING CODE 7555-01-P